FEDERAL RESERVE SYSTEM

Proposed Agency Information Collection Activities; Comment Request

AGENCY: Board of Governors of the Federal Reserve System.

ACTION: Notice, request for comment.

SUMMARY: The Board of Governors of the Federal Reserve System (Board) invites comment on a proposal to extend, without revision, the Quarterly Savings and Loan Holding Company Report (FR 2320; OMB No. 7100-0345).

DATES: Comments must be submitted on or before January 24, 2022.

ADDRESSES: You may submit comments, identified by FR 2320, by any of the following methods:

• Agency Website: https://www.federalreserve.gov/. Follow the instructions for submitting comments at https://www.federalreserve.gov/apps/foia/proposedregs.aspx.

• Email: regs.comments@federalreserve.gov. Include the OMB number or FR number in the subject line of the message.

• Fax: (202) 452-3819 or (202) 452-3102.

• Mail: Ann E. Misback, Secretary, Board of Governors of the Federal Reserve System, 20th Street and Constitution Avenue NW, Washington, DC 20551.

All public comments are available from the Board's website at https://www.federalreserve.gov/apps/foia/proposedregs.aspx as submitted, unless modified for technical reasons or to remove personally identifiable information at the commenter's request. Accordingly, comments will not be edited to remove any confidential business information, identifying information, or contact information. Public comments may also be viewed electronically or in paper in Room 146, 1709 New York Avenue NW, Washington, DC 20006, between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, Washington, DC 20551, (202) 452-3829.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement, and other documentation, will be made available on the Board's public website at https://www.federalreserve.gov/apps/reportforms/review.aspx or may be requested from the agency clearance officer, whose name appears above. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, Without Revision, the Following Information Collection

Report title: Quarterly Savings and Loan Holding Company Report.

Agency form number: FR 2320.

OMB control number: 7100-0345.

Frequency: Quarterly.

Respondents: Savings and loan holding companies (SLHCs).

Estimated number of respondents: 5.

Estimated average hours per response: 2.5.

Estimated annual burden hours: 50.

General description of report: The FR 2320 collects select parent only and consolidated balance sheet and income statement financial data and organizational structure data from SLHCs exempt from filing other Federal Reserve regulatory reports. Specifically, the FR 2320 collects data on the assets, liabilities, equity, and income of the organization. In addition, the FR 2320 collects information about and changes to the organization's subsidiaries, management, capital structure, and operations.

Legal authorization and confidentiality: The FR 2320 is authorized by section 10(b)(2) of the Home Owners' Loan Act (HOLA), which states that “each [SLHC] and each subsidiary thereof, other than a savings association, shall file with the Board, such reports as may be required by the Board.” ¹ Section 10(b)(2) of HOLA also states that “each report shall contain such information concerning the operations of such savings and loan holding company and its subsidiaries as the Board may require.” ²

¹ 12 U.S.C. 1467a(b)(2).

² Id.

The FR 2320 is mandatory. Generally, in the case of tiered SLHCs that are exempt SLHCs, only the top-tier SLHC must file the FR 2320 for the consolidated SLHC organization. However, in certain cases, a lower-tier SLHC may be required to file the FR 2320 instead of the top-tier SLHC if it is determined by the district Federal Reserve Bank that the lower-tier SLHC more closely reflects the risk profile, assets, and liabilities of the subsidiary savings association(s). In addition, lower-tier SLHCs may voluntarily file the FR 2320 or may be required to file in addition to the top-tier SLHC if it is determined that such a filing is necessary to accurately assess the impact that the activities or financial condition of the lower-tier SLHC has on its subsidiary savings association(s).

The information collected in response to line items 24, 25, and 26 is expected to be nonpublic commercial or financial information, which is both customarily and actually treated as private by the respondent, and thus may be kept confidential by the Board pursuant to exemption 4 of the Freedom of Information Act (FOIA).³ Although the remainder of the FR 2320 is generally made available to the public upon request, a reporting SLHC may request confidential treatment for responses to other items pursuant to exemption 4 of the FOIA if those responses contain nonpublic commercial or financial information, which is both customarily and actually treated as private by the respondent.⁴

³ 5 U.S.C. 552(b)(4).

⁴ Id.

Board of Governors of the Federal Reserve System, November 17, 2021.
Michele Taylor Fennell,
Deputy Associate Secretary of the Board.

[FR Doc. 2021-25506 Filed 11-22-21; 8:45 am]

BILLING CODE 6210-01-P